DEPARTMENT OF ENERGY

Federal Energy Regulatory Commission

Notice of Commission Staff Attendance at a Midwest ISO Market-Related Meeting

April 26, 2005.

The Federal Energy Regulatory Commission hereby gives notice that members of its staff may attend the meeting noted below involving the Midwest Independent Transmission System Operator, Inc. (Midwest ISO). The topic of the meeting is a review of the first few weeks of energy market operations with special consideration given to the dispatch of peaking units, bid and offer procedures, start and stop directions, and communications protocols.

The meeting will be held on Thursday, April 28, 2005, from 11 am to 4 pm EST, at the Lakeside Conference Center (directly across from Midwest ISO's headquarters), 630 West Carmel Drive, Carmel, IN 46032.

The discussions may address matters at issue in the following proceedings:

Docket No. ER04-691 and EL04-104, Midwest Independent Transmission System Operator, Inc., et al.

Docket No. EL02-65-000, et al., Alliance Companies, et al.

Docket No. RT01-87-000, et al., Midwest Independent Transmission System Operator, Inc.

Docket No. ER03-323, et al., Midwest Independent Transmission System Operator, Inc.

Docket No. ER04-375, Midwest Independent Transmission System Operator, Inc., et al.

Docket Nos. EL04-43 and EL04-46, Tenaska Power Services Co. and Cargill Power Markets, LLC v. Midwest Independent Transmission System Operator, Inc.

This meeting is open to the public.

For more information, contact Patrick Clarey, Office of Markets, Tariffs and Rates, Federal Energy Regulatory Commission at (317) 249-5937 or patrick.clarey@ferc.gov, or Christopher Miller, Office of Markets, Tariffs and Rates, Federal Energy Regulatory Commission at (317) 249-5936 or christopher.miller@ferc.gov.

Magalie R. Salas,
Secretary.

[FR Doc. E5-2102 Filed 5-2-05; 8:45 am]

BILLING CODE 6717-01-P